DEPARTMENT OF TRANSPORTATION

Pipeline and Hazardous Materials Safety Administration

[Docket No. PHMSA-2010-0130 (Notice No.10-2)]

Hazardous Materials: International Regulations for the Safe Transport of Radioactive Material (TS-R-1); Draft Revision Available for Comment

AGENCY: Pipeline and Hazardous Materials Safety Administration (PHMSA), DOT.

ACTION: Notice; document availability and request for comments.

SUMMARY: PHMSA is seeking public comment on a draft revision of the International Atomic Energy Agency's (IAEA) “Regulations for the Safe Transport of Radioactive Material” (TS-R-1), which is scheduled for publication in 2012. PHMSA and the U.S. Nuclear Regulatory Commission (NRC) will jointly be submitting comments on the draft document to the IAEA. We are requesting input from the public to assist in developing the U.S. comments.

DATES: Comments must be received on or before October 29, 2010. Comments received after this date will be considered if it is practical to do so, however we are only able to assure consideration for comments received on or before this date.

ADDRESSES: You may submit comments identified by the docket number (PHMSA-2010-0130) by any of the following methods:

• Federal eRulemaking Portal: Go to http://www.regulations.gov. Follow the online instructions for submitting comments.

• Fax: 1-202-493-2251.

• Mail: Docket Operations, U.S. Department of Transportation, West Building, Ground Floor, Room W12-140, Routing Symbol M-30, 1200 New Jersey Avenue, SE., Washington, DC 20590.

• Hand Delivery: To Docket Operations, Room W12-140 on the ground floor of the West Building, 1200 New Jersey Avenue, SE., Washington, DC 20590, between 9 a.m. and 5 p.m., Monday through Friday, except Federal Holidays.

Instructions: All submissions must include the agency name and docket number for this notice at the beginning of the comment. Note that all comments received will be posted without change to the docket management system, including any personal information provided.

Docket: For access to the dockets to read background documents or comments received, go to http://www.regulations.gov, or DOT's Docket Operations Office (see ADDRESSES).

FOR FURTHER INFORMATION CONTACT: Mr. Rick Boyle, Office of Hazardous Materials Technology, (202) 366-4545, Pipeline and Hazardous Materials Safety Administration.

Privacy Act: Anyone is able to search the electronic form of any written communications and comments received into any of our dockets by the name of the individual submitting the document (or signing the document, if submitted on behalf of an association, business, labor union, etc.). You may review DOT's complete Privacy Act Statement in the Federal Register published on April 11, 2000 (65 FR 19477) or you may visit http://www.regulations.gov.

SUPPLEMENTARY INFORMATION:

I. Background

The IAEA works with its Member States and multiple partners worldwide to promote safe, secure and peaceful nuclear technologies. The IAEA established and maintains an international standard, Regulations for the Safe Transport of Radioactive Material (TS-R-1), to promote the safe and secure transportation of radioactive material. The IAEA periodically reviews, and as deemed appropriate, revises Regulations for the Safe Transport of Radioactive Material to reflect new information and accumulated experience. The DOT is the U.S. competent authority before the IAEA for radioactive material transportation matters. The NRC provides technical support to the DOT in this regard, particularly with regard to Type B and fissile transportation packages.

The IAEA is about to release for 120-day Member State review a draft revision of TS-R-1 intended for publication in 2012. To assure opportunity for public involvement in the international regulatory development process, we are requesting input from the public on the proposed revisions to TS-R-1. Comments are being solicited only on the changes made between the published 2009 edition and the draft 2012 edition.

The draft 2012 edition and the 2009 version are available online in the public docket for this notice. To assist in comparing these two documents, the IAEA has prepared a table in which the original text (2009, as published) is compared with the proposed text (draft 2012 edition); the table may also be found online in the public docket for this notice. A redline/strikeout version of the 2012 draft showing the changes from the 2009 version is also available in the docket.

Any comments made should refer to the relevant paragraph number in the draft 2012 edition, and when appropriate, proposed alternative text.

Please note that to date, PHMSA has harmonized the U.S. domestic hazardous materials regulations in 49 CFR with the 1996 edition of TS-R-1, as revised in 2000 [Docket No. RSPA-99-6283 (HM-230)]. A rulemaking is in development which will be issued in draft for public review at a later date to harmonize with the 2009 edition of TS-R-1. PHMSA is not currently considering adoption of the 2012 amendments. However, subsequent domestic compatibility rulemakings by both NRC and DOT will be considered after IAEA final publication of the 2012 revised TS-R-1.

II. Public Participation

Methods and instructions for submitting comments are specified in the ADDRESSES section of this notice. Comments must be submitted in writing (Microsoft Word file is the preferred format for electronic submissions) and should include:

• Name;

• Address;

• Relevant paragraph number in the document being reviewed, and

• When appropriate, proposed alternative text.

Commenters may also provide contact information, such as a telephone number and/or e-mail address.

PHMSA and the NRC will review the comments received and based in part on the information received, will develop comments on the revised draft of TS-R-1 to be submitted to the IAEA. Comments from the United States and other IAEA member states will be considered at an IAEA Transport Safety Standards Committee (TRANSSC) Meeting to be convened by IAEA on November 29, 2010, in Vienna, Austria.

Issued in Washington, DC on June 24, 2010.
Magdy El-Sibaie,
Associate Administrator for Hazardous Materials Safety.

[FR Doc. 2010-16073 Filed 6-30-10; 8:45 am]

BILLING CODE 4910-60-P